Title 3—

The President

Proclamation 9929 of September 16, 2019

Constitution Day, Citizenship Day, and Constitution Week, 2019

By the President of the United States of America

A Proclamation

Two hundred thirty-two years ago, the Framers of the Constitution met in Philadelphia and set our country on a bold course toward forming a more perfect Union. John Adams called the drafting of the Constitution “the greatest single effort of national deliberation that the world has ever seen,” and since its ratification, this exceptional document has remained the bedrock of the rule of law for our Nation. On this day and during this week, we celebrate the signing of the Constitution and the American citizens who have devoted their lives to implementing the Framers' vision for the world's grandest and most successful experiment in self-government.

The Founders understood that a self-governing republic requires a free and empowered citizenry. We are therefore grateful that our Constitution is designed, first and foremost, to secure liberty. Through a system of limited Government and checks and balances, the Constitution limits the ability of the State to become an obstacle to human flourishing, while simultaneously enabling the State to serve order, protect rights, and provide public goods.

Since taking office, I have nominated two Justices to the Supreme Court of the United States who have exhibited a proven commitment to the Constitution. I have also nominated and the Senate has confirmed 150 other Federal lower court judges who will faithfully interpret the Constitution and the laws of our Nation. With appropriate respect for the genius of the Framers and in accordance with the rule of law, our Nation's Federal judges should always strive to interpret our laws, including our Constitution as written, regardless of any political or policy preferences they may hold in their capacity as citizens.

The drafters of our Constitution were committed not to a king or Government but to a belief in the promise of America as a free and prosperous society. To fulfill that promise, they designed a Government and a Constitution that could withstand the inevitable demagoguery, passions, and exigencies that would seek to unmake us as a people. And though the durability of our Constitution has been tested through crises and wars, it has endured. Today and throughout this week, we recognize the magnitude of the Constitution and the unparalleled success of the system of Government it helped create.

The Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, DONALD J. TRUMP, President of the United States of America, by virtue of the authority vested in me by the Constitution and the laws of the United States, do hereby proclaim September 17, 2019, as Constitution Day and Citizenship Day, and September 17, 2019, through September 23, 2019, as Constitution Week. On this day and during this week, we celebrate the citizens and the Constitution that have made America the greatest Nation this world has ever known. In doing so, we recommit ourselves to the enduring principles of the Constitution and thereby “secure the Blessings of Liberty to ourselves and our posterity.”

IN WITNESS WHEREOF, I have hereunto set my hand this sixteenth day of September, in the year of our Lord two thousand nineteen, and of the Independence of the United States of America the two hundred and forty-fourth.

[FR Doc. 2019-20619

Filed 9-19-19; 11:15 am]

Billing code 3295-F9-P